DEPARTMENT OF DEFENSE

Department of the Army, Corps of Engineers

Intent to Prepare Draft Environmental Impact Statement for Operation and Maintenance of Lake Sidney Lanier, Georgia

AGENCY: U.S. Army Corps of Engineers, DoD.

ACTION: Notice of Intent.

SUMMARY: The Mobile District, U.S. Army Corps of Engineers (Corps) intends to prepare a Draft Environmental Impact Statement (EIS) to address the full range of activities performed by the Corps to operate and maintain Lake Sidney Lanier. Lake Lanier is located in the upper Chattahoochee River Basin north of Atlanta, Georgia. Buford Dam forms the 38,024-acre multiple purpose lake project, with 540 miles of shoreline and 18,131 acres of lands above the full power pool elevation of 1070. Authorized project purposes include hydroelectric power, flood control, water quality, water supply, fish and wildlife, navigation, and recreation. An EIS was prepared for the lake project in 1974. Although the project purposes under which Lake Lanier is operated and maintained have not changed since 1974, the overall environmental setting for Lake Lanier has experienced major modifications in response to the growth of the Atlanta metropolitan region. The new EIS is being prepared to evaluate the continued operation and maintenance of Lake Lanier in the context of the changed conditions.

ADDRESSES: District Engineer, U.S. Army Corps of Engineers, Mobile District, ATTN: CESAM-PD-E, P.O. Box 2288, Mobile, Alabama 36628-0001.

FOR FURTHER INFORMATION CONTACT: Mr. Glen Coffee, Environment and Resources Branch, telephone (334) 690-2729. Electronic mail may be addressed to: glendon.l.coffee@sam.usace.army.mil.

SUPPLEMENTARY INFORMATION:

1. Background

Lake Lanier is located north of Atlanta, Georgia, a region that has been greatly impacted by the metropolitan area's rapid growth. The Project's appeal from both aesthetic and recreational aspects make it one of the most highly utilized Corps lakes in the country. Additionally, the limited amount of government-owned land surrounding the lake has created an attractive setting for area residents who want to live near the lake. These developments put increasing pressures on the lake's shoreline as adjacent landowners are permitted private boat docks and associated facilities. Further, commercial marinas operated as concessions on the lake are also operating at or near boat storage capacity, as are the numerous recreation areas surrounding the lake.

Even in the 1974 EIS, the trend for increasing development of neighboring private lands around the lake was recognized, along with the demands that would be placed on the lake's resources to accommodate the explosive population growth. In 1974, the Corps had issued permits for approximately 2,500 private docks. This number increased to around 6,500 docks at the time the last Shoreline Management Plan update was prepared in 1987. In 2000, the number of permits issued for private docks increased to 8,200. Based on the 9-year period ending in 2000, it is anticipated that approximately 175 new permits could be issued each year into the immediate future, with the potential number of permits eventually rising to 16,000. The growth trend of boat dock permits, concessions, and club sites could cover more than 250 miles (or 46%) of Lanier's public shoreline.

The combination of private boat docks, commercial marinas, and boat ramps contribute to the over 25,000 boats that can occur on Lake Lanier at any given time, even though all boats are not necessarily in use simultaneously. Peak boat usage occurs during the summer months, particularly the three principal summer holidays of Memorial Day, 4th of July, and Labor Day. A 1985 study indicated that project waters at that time were overused on occasion by 71%. Application of the same evaluation criteria to the current number of boats stored on Lake Lanier and the maximum use of available recreation facilities indicates the level of overuse has increased today to approximately 160%.

At the same time recreational use by the public is increasing, demands are also being placed on the lake's storage volume to meet the expanding water needs of the Apalachiocola-Chattahoochee-Flint (ACF) Basin and the neighboring Alabama-Coosa-Tallapoosa (ACT) Basin. The competition for water between the States of Alabama, Florida, and Georgia has intensified. A cooperative effort has been underway for several years between the three States and the Corps of Engineers to develop a water management strategy that would accommodate the interstate needs of these two basins from their respective headwaters to the Gulf of Mexico. While the water management strategy will eventually develop a Water Allocation Formula, the timeframe within which the agreement will be reached is uncertain and the scope of the formula has not been fixed. Once agreement is reached by the States on the new Water Allocation Formula, a comprehensive water management plan (and accompanying EIS) will be prepared to address reservoir operations in the ACF and ACT Basins. Since Lake Lanier is the uppermost reservoir in the ACT Basin, water allocations will certainly influence the manner in which Lake Lanier's water levels will be managed in the future. As a result, a new and separate EIS must be developed to evaluate the range of water management scenarios within which project operation and maintenance activities will be performed. It will not be the purpose of this Lake Lanier operation and maintenance EIS to evaluate the eventual water management plan for the Buford/Lake Lanier project. Instead, the EIS will focus on the entire range of project operation and maintenance actions performed within the lake and on government-owned lands surrounding the lake within the framework of varying lake levels that could result from implementation of a future Water Allocation Formula developed for the ACF Basin.

2. Proposed Action

The EIS will identify and evaluate the impacts on the environment of the proposed actions to operate and maintain Lake Lanier. Management actions within Lake Lanier will focus on shoreline management activities, recreation, fish and wildlife, timber management, real estate, and water quality, within the context of the larger water management scenarios that are conducted to accomplish the hydropower generation, navigation, and water supply project purposes.

3. Alternatives

a. No Action: No action would represent a continuation of the existing operation and management actions addressed in the original 1974 EIS.

b. The full range of alternatives to implement the operation and maintenance program at Lake Lanier to be addressed in the new EIS has not been identified. The alternatives will be developed during the early stages of work on the EIS and will include alternative methods of implementation for project operation and maintenance actions and project site alternatives as appropriate.

4. Scoping Process

The Corps invites full public participation in the development of the EIS to promote open communication and better decision-making. All persons and organizations that have an interest in the operation and maintenance of Lake Lanier, are urged to participate in this National Environmental Policy Act (NEPA) environmental analysis process. Public involvement will be most beneficial and worthwhile in identifying pertinent environmental issues, offering useful information such as published or unpublished data, direct personal experience or knowledge to inform decision-making, assistsance in designing the scope of operation and maintenance options that should be considered, and recommending suitable mitigation measures as warranted. Those wishing to contribute information, ideas, alternatives for actions, and so forth can furnish these contributions in writing to the points of contact identified above, or by attending public scoping opportunities.

Public comments are welcomed anytime throughout the NEPA process. Formal oppportunities for public participation include:

(1) Input provided at the formal scoping meeting that will be held in the vicinity of Lake Lanier—June 2001.

(2) Input provided via a variety of public involvement forums that will be conducted—June-July 2001.

(3) Review and comment on the draft EIS—July 2002.

(4) Comments/Presentation on the draft EIS—July 2002.

(5) Review of the Final EIS—October 2002.

Precise schedules and locations for public involvement activities will be announced in the local news media. You may also request to be included on the mailing list for public distribution of meeting announcements and documents.

Dated: April 12, 2001.
J. David Norwood,
Colonel, Corps of Engineers, District Engineer.

[FR Doc. 01-10011 Filed 4-23-01; 8:45 am]

BILLING CODE 3710-CR-M